ENVIRONMENTAL PROTECTION AGENCY

[FRL-9960-18-Region 6]

Proposed Issuance of the NPDES General Permit for Discharges From the Oil and Gas Extraction Point Source Category—Stripper Subcategory in Texas (TXG350000)

AGENCY: Environmental Protection Agency (EPA).

ACTION: Proposal of NPDES General Permit Renewal.

SUMMARY: EPA Region 6 today proposes a National Pollutant Discharge Elimination System (NPDES) general permit regulating discharges from oil and gas wells in the Stripper Subcategory which discharge into waters in Texas.

DATES: Comments must be received by June 9, 2017.

ADDRESSES: Comment: Submit your comments, identified by Docket ID No. EPA-R06-OW-2017-0161 to the Federal eRulemaking Portal: http://www.regulations.gov. Follow the online instructions for submitting comments. Once submitted, comments cannot be edited or withdrawn. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: Ms. Evelyn Rosborough, Region 6, U.S. Environmental Protection Agency, 1445 Ross Avenue, Dallas, Texas 75202-2733. Telephone: (214) 665-7515.

A complete draft permit and a fact sheet more fully explaining the proposal may be obtained online from the Federal eRulemaking Portal accessing the Docket listed above or from Ms. Rosborough. In addition, the Agency's current administrative record on the proposal is available for examination at the Region's Dallas offices during normal working hours after providing Ms. Rosborough 24 hours advance notice.

SUPPLEMENTARY INFORMATION: The current permit authorizes discharges of produced water from wells in the Stripper Subcategory located east of the 98th meridian whose produced water comes from the Carrizo/Wilcox, Reklaw or Bartosh formations in Texas as authorized by the expiring permit. EPA is soliciting comments whether to expand the permit coverage to include all stripper wells in Texas. The permit proposes to authorize discharges of produced water, well field drainage, and chemical-free miscellaneous discharges. More stringent requirements are proposed to regulate discharges to water quality-impaired waterbodies. Proposed changes include (1) removal of authorization for sanitary waste, domestic waste, and miscellaneous discharges which are unrelated to stripper well operations; (2) removal of authorization of direct discharge to coastal waters; (3) revision of the toxicity monitoring requirement and removal of the ion-imbalance exemption; (4) the addition of electronic filing requirements for Notices of Intent (NOIs); and (5) the addition of a “sufficiently sensitive method” requirement for analysis. Rationales for those changes are described in the Fact Sheet. To obtain discharge authorization, operators of such facilities must submit a new NOI. To determine whether your facility, company, business, organization, etc. is regulated by this action, you should carefully examine the applicability criteria in Part I, Section A.1 of this permit. If you have questions regarding the applicability of this action to a particular entity, consult the person listed in the preceding FOR FURTHER INFORMATION CONTACT section.

Other Legal Requirements

State certification under section 401 of the CWA; compliance with Endangered Species Act, Historic Preservation Act, Paperwork Reduction Act, and Regulatory Flexibility Act requirements are discussed in the fact sheet to the proposed permit.

Dated: March 2, 2017.
William K. Honker,
Director, Water Division, EPA Region 6.

[FR Doc. 2017-08256 Filed 4-24-17; 8:45 am]

BILLING CODE 6560-50-P